NATIONAL SCIENCE FOUNDATION

Sunshine Act Meeting; National Science Board

The National Science Board's ad hoc Committee on Nominating the NSB Class of 2018-2024, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: July 12, 2019 from 12:30-2:30 p.m. EDT.

PLACE: This meeting will be held by teleconference at the National Science Foundation, 2415 Eisenhower Avenue, Alexandria, VA 22314.

STATUS: Closed.

MATTERS TO BE CONSIDERED: Chair's welcome and remarks: Development of recommended candidate slate of the NSB 2020-2026 term for presentation to the full Board.

CONTACT PERSON FOR MORE INFORMATION: Point of contact for this meeting is: Brad Gutierrez, bgutierr@nsf.gov, 703-292-7000. Meeting information and updates may be found at http://www.nsf.gov/nsb/notices.jsp#sunshine. Please refer to the National Science Board website at www.nsf.gov/nsb for general information.

Chris Blair,
Executive Assistant to the NSB Office.

[FR Doc. 2019-14541 Filed 7-3-19; 4:15 pm]

BILLING CODE 7555-01-P